DEPARTMENT OF VETERANS AFFAIRS

[OMB Control No. 2900-VHA2]

Proposed Information Collection Activity: Proposed Collection; Comment Request

AGENCY: Veterans Health Administration, Department of Veterans Affairs

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to the notice. This notice solicits comments for information needed to determine the extent to which former reservists experienced physical assault of a sexual nature or battery of a sexual nature while serving on active duty for training.

DATES: Written comments and recommendations on the proposed collection of information should be received on or before October 29, 2001.

ADDRESSES: Submit written comments on the collection of information to Ann W. Bickoff, Veterans Health Administration (193B1), Department of Veterans Affairs, 810 Vermont Avenue, NW., Washington, DC 20420 or e-mail: ann.bickoff@mail.va.gov. Please refer to “OMB Control No. 2900-VHA2” in any correspondence.

FOR FURTHER INFORMATION CONTACT: Ann W. Bickoff at (202) 273-8310 or FAX (202) 273-9381.

SUPPLEMENTARY INFORMATION: Under the PRA of 1995 (Public Law 104-13; 44 U.S.C., 3501-3520), Federal agencies must obtain approval from the Office of Management and Budget (OMB) for each collection of information they conduct or sponsor. This request for comment is being made pursuant to Section 3506(c)(2)(A) of the PRA.

With respect to the following collection of information, VHA invites comments on: (1) whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Survey of Military Sexual Trauma Among the Reserve Components of the Armed Forces, VA Form 10-21052(NR).

OMB Control Number: 2900-VHA2.

Type of Review: New collection.

Abstract: The Veterans Millennium Health Care and Benefits Act mandates that the Secretary of Veterans Affairs, in consultation with the Secretary of Defense, will conduct a study to determine: (1) the extent to which former members of the Reserve Components of the Armed Forces experienced physical assault of a sexual nature or battery of a sexual nature while serving on active duty for training; (2) the extent to which such former members have sought counseling through VA relating to these incidents; and (3) the additional resources that, in the judgment of the Secretary, would be required to meet the projected need of these former members for such counseling.

Affected Public: Individuals and households.

Estimated Annual Burden: 3,375 hours.

Estimated Average Burden Per Respondent: 45 minutes.

Frequency of Response: One time.

Estimated Number of Respondents: 4,500.

Dated: August 15, 2001.
By direction of the Secretary:
Donald L. Neilson,
Director, Information Management Service.

[FR Doc. 01-21679 Filed 8-27-01; 8:45 am]

BILLING CODE 8320-01-P